DEPARTMENT OF HEALTH AND HUMAN SERVICES

Centers for Disease Control and Prevention

[30Day-21-1227]

Agency Forms Undergoing Paperwork Reduction Act Review

In accordance with the Paperwork Reduction Act of 1995, the Centers for Disease Control and Prevention (CDC) has submitted the information collection request titled “Assessment of Ill Worker Policies Study” to the Office of Management and Budget (OMB) for review and approval. CDC previously published a “Proposed Data Collection Submitted for Public Comment and Recommendations” notice on September 14, 2020, to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Assessment of Ill Worker Policies Study (OMB Control No. 0920-1227, Exp. 5/31/2021)—Revision—National Center for Environmental Health (NCEH), Centers for Disease Control and Prevention (CDC).

Background and Brief Description

The CDC is requesting a three-year Paperwork Reduction Act (PRA) clearance for a Revision information collection request (ICR) for a research program focused on identifying the environmental causes of foodborne illness and improving environmental public health practice. This research program is conducted by the Environmental Health Specialists Network (EHS-Net), a collaborative project of the CDC, U.S. Food and Drug Administration (FDA), U.S. Department of Agriculture (USDA), and eight state and local public health programs (Franklin County, OH; Tennessee; Minnesota; Rhode Island; New York; New York City, NY; Southern Nevada Health District, NV; and Harris County, TX).

This ICR aims to assess whether an educational intervention will result in either the development or enhancement of restaurant ill worker policies. This will be accomplished by interviewing restaurant managers and observing restaurant practices in 320 randomly selected and assigned restaurants in the EHS-Net catchment areas. There will be two or three site visits depending upon which group the restaurants are assigned to, that is, the intervention or the control group. An initial visit will be used to observe baseline conditions and to provide the intervention only to the restaurants selected to receive it. A second visit will be used to determine if the policies have changed and to introduce the intervention to the control restaurants (if it is deemed successful), and a final follow up visit to the control restaurants that received the intervention on the second visit (if they receive the intervention). Initial success for the intervention will be measured by whether three or more intervention restaurants in each EHS-Net catchment area either develop a written ill worker management plan (if they did not have one at the pre-intervention evaluation) or enhanced their policies (e.g., added provisions addressing reasons why ill workers reported working while ill).

Although approved in 2018, NCEH and its program partners needed to prioritize other data collections over this study, and then delayed the current study due to the COVID-19 pandemic. NCEH partners provided feedback to refine this research protocol, to revise the ICR, and to begin this study in 2021. NCEH is requesting approval for revisions which fall into three categories: (1) Changes to strengthen the study, based on recent experience and stakeholder feedback; (2) changes to respond to the COVID-19 pandemic, and (3) a change in one participating site.

NCEH is requesting a revised PRA clearance for 820 responses per year and for a time burden of 261 hours per year. These changes result in a decrease of 1,307 responses and 91 hours per year relative to the 2018 PRA clearance. There is no cost to the respondents other than their time.

Estimated Annualized Burden Hours
Type of respondents | Form name | Number of respondents | Number of responses per respondent | Average burden per response (in hours)
Restaurant Managers (Intervention and Control Restaurants) | Manager Recruiting Script | 237 | 1 | 3/60
Restaurant Managers (Intervention Restaurants) | Manager Informed Consent and Interview | 53 | 2 | 20/60
| Intervention Log | 53 | 1 | 30/60
Restaurant Managers (Control Restaurants) | Manager Informed Consent and Interview | 53 | 3 | 20/60
| Intervention Log | 53 | 1 | 30/60
Health Department Workers (Intervention and Control Restaurants) | Restaurant Observation Form | 106 | 2 | 30/60

Jeffrey M. Zirger,
Lead, Information Collection Review Office, Office of Scientific Integrity, Office of Science, Centers for Disease Control and Prevention.

[FR Doc. 2021-02551 Filed 2-5-21; 8:45 am]

BILLING CODE 4163-18-P